DEPARTMENT OF LABOR

Occupational Safety and Health Administration

National Advisory Committee on Ergonomics

AGENCY: Occupational Safety and Health Administration (OSHA), Labor.

ACTION: Notice of meeting.

SUMMARY: The National Advisory Committee on Ergonomics (NACE) is part of the Secretary's comprehensive approach for reducing ergonomics-related injuries and illnesses in the workplace. The committee was convened for the first time on January 22, 2003. This notice schedules the second NACE meeting. The public is encouraged to attend.

DATES: The Committee will meet in Washington, DC on Tuesday, May 6 from 9:30 a.m. to 5 p.m. and Wednesday, May 7, 2003, from 8:30 a.m. until approximately 3 p.m.

ADDRESSES: The Committee will meet at the Washington Court Hotel, 525 New Jersey Avenue, NW., Washington, DC 20001; Telephone (202) 628-2100. Submit comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Public Affairs, Room N-3647, U.S. Department of Labor, 200 Constitution Avenue, NW., Washington, DC 20210; Telephone: (202) 693-1999.

SUPPLEMENTARY INFORMATION: NACE was chartered for a two-year term on November 27, 2002, to provide advice and recommendations on ergonomic guidelines, research, and outreach and assistance. The committee met for the first time on January 22, 2003, in Washington, DC. This notice announces the second meeting of the committee, which will take place in Washington, DC on May 6-7, 2003.

I. Meeting Agenda

The second meeting of the National Advisory Committee on Ergonomics will continue discussions on OSHA's ergonomics program and related presentations. The Committee will set up working groups on Research, Guidelines, and Outreach and Assistance, and those working groups will meet on the afternoon of May 6. The working groups will report back to the full Committee on May 7th and lead discussions about their respective topics. Assistant Secretary John Henshaw will also address the Committee on the 7th.

II. Public Participation

Written data, views, or comments for consideration by NACE on the various agenda items listed above may be submitted, preferably with copies, to MaryAnn Garrahan at the address listed above. Submissions received by April 28, 2003 will be provided to the committee members for consideration. Requests to make oral presentations to the Committee may be granted if time permits. Anyone wishing to make an oral presentation to the Committee should notify MaryAnn Garrahan at the address noted above. The request should state the amount of time desired, the capacity in which the person will appear, and a brief outline of the content of the presentation. Persons who request an oral presentation may be allowed to speak, as time permits, at the discretion of the Chair of the Advisory Committee.

Persons with disabilities requiring special accommodations should contact Veneta Chatman (telephone: (202) 693-1912; Fax (202) 693-1635) by April 28, 2003.

A transcript of the meeting will be available for inspection and copying in the OSHA Technical Data Center, Room N-2625 (see ADDRESSES section above) telephone: (202) 693-2350.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Signed at Washington, DC, this 18th day of April, 2003.
John L. Henshaw,
Assistant Secretary of Labor.

[FR Doc. 03-10170 Filed 4-21-03; 3:03 pm]

BILLING CODE 4510-26-P